DEPARTMENT OF HEALTH AND HUMAN SERVICES

Administration for Children and Families

Submission for Office of Management and Budget (OMB) Review; Procedural Justice-Informed Alternatives to Contempt Demonstration (OMB #0970-0505)

AGENCY: Office of Child Support Enforcement, Administration for Children and Families, Department of Health and Human Services.

ACTION: Request for public comments.

SUMMARY: The Office of Child Support Enforcement (OCSE), Administration for Children and Families (ACF), U.S. Department of Health and Human Services (HHS), is proposing to add additional data collection activities as part of the rigorous evaluation of the Procedural Justice-Informed Alternatives to Contempt (PJAC) Demonstration. The proposed revision to conduct additional data collection is part of a research supplement that builds on the PJAC study to understand the role of bias in child support program enforcement actions.

DATES: Comments due within 30 days of publication. OMB must make a decision about the collection of information between 30 and 60 days after publication of this document in the Federal Register. Therefore, a comment is best assured of having its full effect if OMB receives it within 30 days of publication.

ADDRESSES: Written comments and recommendations for the proposed information collection should be sent within 30 days of publication of this notice to www.reginfo.gov/public/do/PRAMain. Find this particular information collection by selecting “Currently under 30-day Review—Open for Public Comments” or by using the search function. You can also obtain copies of the proposed collection of information by emailing infocollection@acf.hhs.gov. Identify all emailed requests by the title of the information collection.

SUPPLEMENTARY INFORMATION:

Description: OCSE is proposing to conduct additional data collection activities as part of the PJAC Demonstration. In September 2016, OCSE issued grants to five state child support agencies to provide alternative approaches to the contempt process with the goal of increasing noncustodial parents' compliance with child support orders by building trust and confidence in the child support agency and its processes. OCSE also awarded a grant to support a rigorous evaluation of PJAC. The PJAC Demonstration is designed to help grantees and OCSE to learn whether incorporating principles of procedural justice into child support business practices increases reliable child support payments, reduces arrears, minimizes the need for continued enforcement actions and sanctions, and reduces the use of contempt proceedings.

The PJAC demonstration will yield information about the efficacy of applying procedural justice principles via a set of alternative services to the current use of a civil contempt process to address nonpayment of child support. As a part of the evaluation, PJAC will build evidence about disparity and bias in the child support system, with a focus on the use of enforcement actions used to coerce child support payments. The research will measure the extent to which bias is embedded within child support policies and practices. The information gathered may help inform future policy decisions to better understand and reduce disparities within the child support program.

The research will document disparities and differences in treatment by race and ethnicity, gender, and income within the child support system in up to three states participating in the PJAC demonstration. Key elements of the study include a quantitative analysis of disparities in the initiation of a child support case, setting of order amounts, order modifications, and use of punitive enforcement actions, including civil contempt; semi-structured interviews with staff from child support agencies and selected partner organizations; and separate semi-structured interviews with study participants to learn about their experiences with and perceptions of bias in the child support process, specifically in the use of enforcement actions.

OCSE is proposing to conduct additional data collection activities as part of the PJAC Demonstration, which include the following: a topic guide for interviews about experiences of bias with noncustodial parents and a topic guide for interviews about experiences of bias with child support staff and partners.

Data collection activities that were previously approved by OMB, following public comment, are the staff data entry on participant baseline information, study Management Information Systems (MIS) to track receipt of services, staff and community partner interview topic guide, the noncustodial parent participant interview protocol, the staff survey, the staff time study, and the custodial parent interview protocol. These instruments are currently in use and this request will extend approval to continue data collection. Supporting materials, including burden estimates related to approved instruments are available at https://www.reginfo.gov/public/do/PRAICList?ref_nbr=202202-0970-013. The following burden table includes information for the proposed new interviews.

Respondents: Respondents for the new data collection instruments include study participants and child support program staff and partners at three of the six PJAC demonstration sites.

Annual Burden Estimates
Instrument | Total number of respondents | Total number of responses per respondent | Average burden hours per response | Total burden hours | Annual burden hours
Topic list for interviews about experiences of bias with staff and partners | 90 | 1 | 1.5 | 135 | 45
Topic guide for interviews about experiences of bias with noncustodial parents | 90 | 1 | 1 | 90 | 30

Estimated Total Annual Burden Hours: 75.

Authority: 42 U.S.C. 1315.

Mary B. Jones,
ACF/OPRE Certifying Officer.

[FR Doc. 2022-26328 Filed 12-2-22; 8:45 am]

BILLING CODE 4184-41-P